Presidential Determination No. 2018-02 of December 6, 2017

Suspension of Limitations Under the Jerusalem Embassy Act

Memorandum for the Secretary of State

By the authority vested in me as President by the Constitution and the laws of the United States, including section 7(a) of the Jerusalem Embassy Act of 1995 (Public Law 104-45) (the “Act”), I hereby determine that it is necessary, in order to protect the national security interests of the United States, to suspend for a period of 6 months the limitations set forth in sections 3(b) and 7(b) of the Act.

You are authorized and directed to transmit this determination, accompanied by a report in accordance with section 7(a) of the Act, to the Congress and to publish this determination in the Federal Register.

The suspension set forth in this determination shall take effect after you transmit this determination and the accompanying report to the Congress.

THE WHITE HOUSE,

Washington, December 6, 2017

[FR Doc. 2017-28027

Filed 12-22-17; 11:15 am]

Billing code 4710-10-P